CORPORATION FOR NATIONAL AND COMMUNITY SERVICE

Notice Concerning Request for Public Input on 2004 State Commission—Administrative and AmeriCorps Program Guidance

AGENCY: Corporation for National and Community Service.

ACTION: Notice concerning request for public input on 2004 State Commission Administrative and AmeriCorps Program Guidance.

SUMMARY: The Corporation for National and Community Service (hereinafter the “Corporation”) is requesting input from the public concerning the 2004 AmeriCorps grants program and state commission administrative guidance that will be issued beginning in September, 2003. This guidance will describe the policies, procedures, and timelines that govern the allocation of resources in fiscal year 2004, and covers organizations that may apply for AmeriCorps grants under the National and Community Service Act of 1990. By inviting input, we hope to encourage greater involvement by the national and community service field, members of the public, and other stakeholders. The Corporation invites input on any topic covered by this guidance, including application requirements; preferences for funding; sustainability; the grants timeline; and accountability measures. Once final, the guidance and related application materials will be posted on the Corporation's website at www.nationalservice.org. Organizations considering applying for grants and other Federal assistance provided by the Corporation should check our website periodically for information relating to the application and selection processes.

DATES: To ensure that your comments are considered, please provide them to the Corporation by no later than 5 p.m., Eastern Daylight Time, on August 22, 2003.

ADDRESSES: Please submit written comments to the Corporation at the following address: (a) Via e-mail to 2004Guidance@cns.gov; (b) via fax to David Reingold at 202-565-2785; or (c) via letter, to: Corporation for National and Community Service, Attn: David Reingold, 1201 New York Avenue NW., Washington, DC 20525. Due to continued delays in the Corporation's receipt of mail, individuals are strongly encouraged to respond via e-mail or fax. This notice may be requested in an alternative format for the visually impaired.

FOR FURTHER INFORMATION CONTACT: For further information, contact either David Reingold at 202-606-5000x139 (dreingold@cns.gov) or Nancy Talbot at 202-606-5000x470 (ntalbot@cns.gov). Our TDD number is 202-565-2799.

SUPPLEMENTARY INFORMATION: In addition to this opportunity for written comments, the Corporation will hold a series of conference calls to receive input from the public on the following dates:

Conference Calls for State Commissions:

Call Date: Aug. 11, 2003.

Call Time: 3 p.m. Eastern Daylight Time.

Duration: 1 hr 30 min.

Leader: Ms. Rosie Mauk.

USA Toll Free Number: 888-220-3084.

Passcode: State Commission.

For security reasons, the passcode and the leader's name will be required to join your call.

Call Date: Aug-12-2003.

Call Time: 1:30 p.m. Eastern Daylight Time.

Duration: 1 hr 30 min.

Leader: Ms. Rosie Mauk.

USA Toll Free Number: 888-455-0040.

Passcode: State Commission.

For security reasons, the passcode and the leader's name will be required to join your call.

Conference Call for Education Awards Programs:

Call Date: Aug-13-2003.

Call Time: 1 p.m. Eastern Daylight Time.

Duration: 1 hr 30 min.

Leader: Ms. Rosie Mauk.

USA Toll Free Number: 888-566-5776.

Passcode: ED Awards.

For security reasons, the passcode and the leader's name will be required to join your call.

Conference Call for AmeriCorps*National:

Call Date: Aug-13-2003.

Call Time: 3 p.m. Eastern Daylight Time.

Duration: 1 hr 30 min.

Leader: Ms. Rosie Mauk.

USA Toll Free Number: 888-220-3083.

Passcode: National Direct.

For security reasons, the passcode and the leader's name will be required to join your call.

Please note that this Notice does not request comments on individual application forms used under the various programs of the Corporation. The Corporation periodically publishes separate requests for comments concerning such application forms. By way of example, please refer to the Corporation's Application Guidelines for 2003 at http://www.americorps.org/resources/guidelines2003.html.

Dated: August 1, 2003.
David Reingold,
Director of Research and Policy Development.

[FR Doc. 03-20141 Filed 8-6-03; 8:45 am]

BILLING CODE 6050-$$-P